DEPARTMENT OF TRANSPORTATION

Federal Aviation Administration

14 CFR Part 93

[Docket No. FAA-2004-17005; Notice No. 05-07]

RIN 2120-AI17

Washington, DC Metropolitan Area Special Flight Rules Area; Correction

AGENCY: Federal Aviation Administration, DOT.

ACTION: Notice of proposed rulemaking; correction.

SUMMARY: This document corrects the docket number and an incorrect reference in the proposed rule, “Washington, DC Metropolitan Area Special Flight Rules Area,” published in the Federal Register of August 4, 2005.

DATES: The comment period will close on November 2, 2005.

FOR FURTHER INFORMATION CONTACT: Ellen Crum, Airspace and Rules, Office of System Operations and Safety; telephone (202-267-8783).

Correction

In FR Doc. 05-15375 beginning on page 45250 in the Federal Register of August 4, 2005, make the following corrections.

1. On page 45250, in the first column, in the fourth line of the heading, “Docket No. FAA-2003-17005” should have read, “Docket No. FAA-2004-17005.”

2. On page 45250, in the first column, in the “ADDRESSES” paragraph, in the third and fourth lines, “identified by Docket Number FAA-2003-17005” should have read, “identified by Docket Number FAA-2004-17005.”

3. On page 45250, in the third column, under “Sensitive Security Information,” in the fourth and fifth lines, “(identified as docket number FAA-2003-17005)” should have read, “(identified as docket number FAA-2004-17005).”

§ 93.43 [Corrected]

4. On page 45261, in the center column, in § 93.43(a)(1), “49 U.S.C. 1562 subpart A” should have read, “49 CFR part 1562 subpart A.”

Issued in Washington, DC, on August 19, 2005.
Anthony F. Fazio,
Director, Office of Rulemaking.

[FR Doc. 05-16781 Filed 8-23-05; 8:45 am]

BILLING CODE 4910-13-P